DEPARTMENT OF HOUSING AND URBAN DEVELOPMENT

[Docket No. FR-5828-N-05]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; COE: Ms. Brenda John-Turner, Army Corps of Engineers, Real Estate, HQUSACE/CEMP-CR, 441 G Street NW., Washington, DC 20314; (202) 761-5222; Energy: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; Interior: Mr. Michael Wright, Acquisition & Property Management, Department of the Interior, 3960 N. 56th Ave. #104, Hollywood, FL. 33021; (443) 223-4639; NASA: Mr. Frank T. Bellinger, Facilities Engineering Division, National Aeronautics & Space Administration, Code JX, Washington, DC 20546, (202) 358-1124; Navy: Mr. Steve Matteo, Department of the Navy, Asset Management Division, Naval Facilities Engineering Command, Washington Navy Yard, 1330 Patterson Ave. SW., Suite 1000, Washington, DC 20374, (202) 685-9426 (These are not toll-free numbers).

Dated: January 22, 2015.
Brian P. Fitzmaurice,
Director, Division of Community Assistance, Office of Special Needs Assistance Programs.

TITLE V, FEDERAL SURPLUS PROPERTY PROGRAM FEDERAL REGISTER REPORT FOR 01/30/2015

Suitable/Available Properties

Building

California

31 Trailers

700 East Ave.

Livermore CA 94550

Landholding Agency: Energy

Property Number: 41201440007

Status: Excess

Directions: 1280; 1602; 1631; 1678; 1680; 1726; 1756; 1826; 1886; 1887; 2180; 2512; 2525; 2554; 2625; 2627; 2679; 2808; 2825; 2925; 3204; 3206; 3304; 4924; 5104; 5207; 5226; 6424; 6426; 8724; 8726

Comments: off-site removal only; 80,324 GSF; fair to adequate condition; contact DOE for accessibility & any further information regarding trailers.

Facility 20281

Naval Air Weapons Station

China Lake CA 93555

Landholding Agency: Navy

Property Number: 77201510003

Status: Excess

Comments: off-site removal only; 346 sq. ft.; 20+ yrs.-old; short range air navigational aid; roof need to be replaced; contamination; contact Navy for more information.

Colorado

6 Bldgs. Grand Junction Complex

500 South 10th Street

Grand Junction CO 81501

Landholding Agency: GSA

Property Number: 54201510002

Status: Excess

GSA Number: 7-I-CO-0698-AA

Directions: Disposal Agency; GSA

Landholding Agency; Bureau of Reclamation

Comments: 50+ yrs. old; Brick/Metal structure; 11,244 sq. ft., total 6 bldgs.; sits on 1.2 acres; office/storage/warehouse; repairs needed totaling $10,000; contact GSA for more info.

Iowa

Pisgah Microwave Repeater Site

1585 Juneau Avenue

Mondamin IA 51564

Landholding Agency: GSA

Property Number: 54201510001

Status: Excess

GSA Number: 7-D-IA-0514-AA

Directions: Disposal Agency; GSA

Landholding Agency; COE

Comments: 26+ yrs. old; metal structure; 128 sq. ft., storage; property has radio antenna; sit on 2.58 acres of land; for further info. contact GSA.

Missouri

Former NMCB15 Richards-Gedaur

RPSUID 212

600 Seabee Drive

Belton MO 64068

Landholding Agency: GSA

Property Number: 54201510004

Status: Surplus

GSA Number: 7-D-MO-0705

Directions: Disposal Agency: GSA; Landholding Agency: Navy

Comments: 10 bldgs. ranging from 960 to 4,980 sq. ft.; 12+ months vacant; some recent use includes: admin./classroom/warehouse; 14.67 acres; asbestos/lead/mold may be present; contact GSA for more information.

Montana

Bldg. #2501; Jackson Oil House

1000 Warm Springs Rd.

Jackson MT 59736

Landholding Agency: Agriculture

Property Number: 15201510002

Status: Unutilized

Comments: 80+ yrs. old; storage; 180 months vacant; poor conditions; needs new foundation and floor; contact Agriculture for more info.

New York

Hector Grazing Association

Hdgt. House

5046 Rt. 1 Searsburg Road

Hector NY 14886

Landholding Agency: Agriculture

Property Number: 15201510001

Status: Unutilized

Comments: 125+ yrs. old; 1,000 sq. ft.; storage; residential; vacant 96 NOS; wood structure; repaired needed in 2006 totaled $89,000; contact Agric. For more info.

Oklahoma

Keystone Lake Office

23115 West Wekiwa Road

Sand Springs OK 74063-9312

Landholding Agency: COE

Property Number: 31201440009

Status: Unutilized

Directions: 43430; 43431; 43498; 43499

Comments: off-site removal only; no future agency need; 33 sq. ft.; poof conditions; contact COE for more information.

Texas

CESWF-OD-TB, Town Bluff Dam/

B. A. Steinhagen Lake

5171 FM 92 South

Woodville TX 75975

Landholding Agency: COE

Property Number: 31201510001

Status: Unutilized

Directions: Town Bluff Dam: TB-26110

Comments: 66+ yrs. old; 64 sq. ft.; well house pump + storage tank; wood frame on concrete slab; contact COE for more info.

Virginia

Marine Corps Reserve Training

Facility

7401 Warwick Blvd.

Newport News VA

Landholding Agency: Navy

Property Number: 77201510001

Status: Unutilized

Comments: 31+ yrs. old; 21,157 sq. ft.; Marine Corps Reserve Center; contact Navy for more information.

Washington

old Lynden Border Patrol

Station; 8334 Guide Meridian Rd.

Lynden WA 98264

Landholding Agency: GSA

Property Number: 54201510003

Status: Excess

GSA Number: 9-Z-WA-1276

Directions: Disposal Agency: GSA; Landholding Agency: Dept. of Homeland Security

Comments: 50+ yrs. old; 2,763 sq. ft.; vacant 18+ months; contact GSA for more information.

Unsuitable Properties

Building

California

Bldg. 828B, 261, 281, 321A, 343

700 East Ave.

Livermore CA 94550

Landholding Agency: Energy

Property Number: 41201440005

Status: Excess

Directions: 828B; 261; 281; 321A; 343

Comments: public access denied & no alternative method to gain access w/out compromising national security.

Reasons: Secured Area

Building 405,435,442,812A, 812D

700 East Ave.

Livermore CA 94550

Landholding Agency: Energy

Property Number: 41201440006

Status: Excess

Directions: 405; 435; 442; 812A; 812D

Comments: public access denied & no alternative method to gain access w/out compromising national security.

Reasons: Secured Area

Bldg. 828A, 834J, 834L, 848,850

700 East Ave.

Livermore CA 94550

Landholding Agency: Energy

Property Number: 41201440008

Status: Excess

Directions: 828A; 834J; 834L; 848; 850

Comments: public access denied & no alternative method to gain access w/out compromising national security.

Reasons: Secured Area

Facility 01055

Naval Air Weapon Station

China Lake CA 93555

Landholding Agency: Navy

Property Number: 77201510002

Status: Excess

Comments: public access denied and no alternative method to gain access w/out compromising national security; documented deficiencies: roof has crumbled; clear threat to physical safety.

Reasons: Secured Area; Extensive deterioration

Florida

2 Building

Naval Air Station

Pensacola FL 32509

Landholding Agency: Navy

Property Number: 77201440021

Status: Underutilized

Directions: 2402; 856A (property incorrectly listed in the December 12, 2014 Federal Register publication)

Comments: public access denied and no alternative w/out compromising national security.

Reasons: Secured Area

Illinois

Master Sub Station

Fermi National Accelerator Lab

Batavia IL 60510

Landholding Agency: Energy

Property Number: 41201510001

Status: Excess

Comments: public access denied & no alternative method to gain access w/out compromising national security.

Reasons: Secured Area

Nebraska

543800B060 Swine Bldg.

60/RPUID 03.55088

844 RD: 313

None NE 68933

Landholding Agency: Agriculture

Property Number: 15201510003

Status: Excess

Directions: 19606 HRUSKA US Meat Animal Res. Ctr.

Comments: research based camps; Public access denied & no alternative method to gain access w/out compromising national security.

Reasons: Secured Area

543800B062 Swine Bldg.

62/RPUID 03.55090

844 RD 313

None NE 68933

Landholding Agency: Agriculture

Property Number: 15201510004

Status: Excess

Directions: 19606 HRUSKA US meat Animal Res. Ctr

Comments: research based camps; Public access denied & no alternative method to gain access w/out compromising national security.

Reasons: Secured Area

543800B0061 Swine Bldg.

61/RPUID 03.55089

844 BD 313

None NE 68933

Landholding Agency: Agriculture

Property Number: 15201510005

Status: Excess

Directions: 19606 HRUSKA US Meat Animal Res. Ctr.

Comments: research based camps; Public access denied & no alternative method to gain access w/out compromising national security.

Reasons: Secured Area

New Mexico

Hammond Residence

790 C.R. 4990

Bloomfield NM 87413

Landholding Agency: Interior

Property Number: 61201440015

Status: Unutilized

Comments: documented deficiencies; structural unsound; roof is severely dry rotted; extensive wall damage due to dry rot/massive holes; clear threat to physical safety.

Reasons: Extensive deterioration

Building 114 & 437

12600 NASA Road

Las Cruces NM 88012

Landholding Agency: NASA

Property Number: 71201440017

Status: Unutilized

Directions: 114; 437

Comments: public access denied & no alternative method to gain access w/out compromising national security.

Reasons: Secured Area

114 General Purpose Bldg. 437

12600 Nasa Road

Las Cruces NM 88012

Landholding Agency: NASA

Property Number: 71201510002

Status: Unutilized

Directions: 1029/72/22: 1069/72/99

Comments: public access denied & no alternative method to gain access w/out compromising national security.

Reasons: Secured Area

Ohio

SPE Water Toner (D)

6100 Columbus Ave.

Sandusky OH 44870

Landholding Agency: NASA

Property Number: 71201510001

Status: Unutilized

Directions: RPM Property 22/1008/57. Property Number #8151.

Comments: public access denied & no alternative method to gain access w/out compromising national security.

Reasons: Secured Area

Unsuitable Properties

Land

Ohio

Great Miami River Access Site

Lawrenceburg Rd.

North Bend OH 45052

Landholding Agency: GSA

Property Number: 54201510005

Status: Excess

GSA Number: 1-D-OH-844

Directions: Disposal Agency: GSA; Landholding Agency: COE

Comments: entire property located within a floodway which has not been corrected or contained.

Reasons: Floodway

[FR Doc. 2015-01469 Filed 1-26-15; 8:45 am]

BILLING CODE 4210-67-P